DEPARTMENT OF TRANSPORTATION

Federal Railroad Administration

[Docket Number FRA-2019-0105]

Petition for Waiver of Compliance

Under part 211 of title 49 of the Code of Federal Regulations (CFR), this provides the public notice that by letter received December 10, 2019, Kansas City Southern (KCS) petitioned the Federal Railroad Administration (FRA) for a waiver of compliance from certain provisions of the Federal railroad safety regulations contained at 49 CFR part 236. FRA assigned the petition Docket Number FRA-2019-0105.

Specifically, KCS seeks relief from the 2-year periodic testing requirements in § 236.377, Approach locking; § 236.378, Time locking; § 236.379, Route locking; § 236.380, Indication locking; and § 236.381, Traffic locking. KCS also requests relief from the 1-year periodic testing period of § 236.109, Time releases, timing relays, and timing devices, on all vital microprocessor-based systems.

KCS proposes to verify and test signal locking systems controlled by microprocessor-based equipment by use of alternative procedures every 4 years after initial baseline testing or program change as follows:

• Verification of the Cyclic Redundancy Check (CRC)/Check Sum/Universal Control Number (UNC) of an existing location's application logic to the baseline tested version.

• Comparison and verification of all input/output arrangement, vital timer durations, and vital program settings between the existing location and prints/records pertaining to the baseline tested version.

• Re-establishment of the baseline tested version via full compliance with 49 CFR part 236 when a discrepancy is caused/found between the existing and baseline versions.

• Incorporate recording of alternative method into KCS's test record-keeping system.

KCS states its current record-keeping system has all the information and requirements for baseline tests. Furthermore, the existing test records fulfil all the requirements for baseline test record keeping. Given this, KCS desires to use these test records as the existing baseline versions. Subsequent alternative tests would be recorded as such within KCS's record-keeping system.

A copy of the petition, as well as any written communications concerning the petition, is available for review online at www.regulations.gov and in person at the Department of Transportation's Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by February 3, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
John Karl Alexy,
Associate Administrator for Railroad Safety Chief Safety Officer.

[FR Doc. 2019-27250 Filed 12-17-19; 8:45 am]

BILLING CODE 4910-06-P